NATIONAL SCIENCE FOUNDATION

Advisory Committee for Geosciences; Notice of Meeting

In accordance with the Federal Advisory Committee Act (Pub. L. 92-463, as amended), the National Science Foundation announces the following meeting:

Name: Advisory Committee for Geosciences (1755).

Dates: April 8th, 2015, 8:30 a.m.-5:00 p.m.; April 9th, 2015, 8:30 a.m.-2:00 p.m.

Place: Stafford I, Room 1235, National Science Foundation, 4201 Wilson Blvd., Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight on support for geoscience research and education including atmospheric, geo-space, earth, ocean and polar sciences.

Agenda

Wednesday, April 8, 2015 (8:30 a.m.-5:00 p.m.)

Meeting with the NSF Director and CIO

Directorate and NSF activities and plans

Update on Merit Review Pilots

Division Subcommittee Meetings

Thursday, April 9, 2015 (8:30 a.m.-2:00 p.m.)

Division Subcommittee Meetings, continued.

Briefings on NAS Decadal Survey of the Ocean and NRC Report on Climate Intervention

Action Items/Planning for Fall Meeting

Dated: March 3, 2015.
Suzanne Plimpton,
Acting, Committee Management Officer.

[FR Doc. 2015-05256 Filed 3-5-15; 8:45 am]

BILLING CODE 7555-01-P